DEPARTMENT OF COMMERCE

Foreign-Trade Zones Board

[B-8-2013]

Foreign-Trade Zone 129—Bellingham, Washington; Authorization of Production Activity; T.C. Trading Company, Inc. (Eyeglass Assembly and Kitting), Blaine, WA

On January 17, 2013, the Port of Bellingham, grantee of FTZ 129, submitted a notification of proposed production activity to the Foreign-Trade Zones (FTZ) Board on behalf of T.C. Trading Company, Inc., within Subzone 129B, in Blaine Washington.

The notification was processed in accordance with the regulations of the FTZ Board (15 CFR part 400), including notice in the Federal Register inviting public comment (78 FR 7395, 02/01/2013). The FTZ Board has determined that no further review of the activity is warranted at this time. The production activity described in the notification is authorized, subject to the FTZ Act and the Board's regulations, including Section 400.14.

Dated: May 17, 2013.
Andrew McGilvray,
Executive Secretary.

[FR Doc. 2013-12222 Filed 5-21-13; 8:45 am]

BILLING CODE 3510-DS-P